LIBRARY OF CONGRESS

Copyright Office

37 CFR Part 201

[Docket No. 2023-5]

Exemptions To Permit Circumvention of Access Controls on Copyrighted Works: Notice and Request for Public Comment

AGENCY: U.S. Copyright Office, Library of Congress.

ACTION: Notice of inquiry; extension of comment period.

SUMMARY: The United States Copyright Office is extending the deadline for written petitions for new exemptions in connection with the ninth triennial rulemaking proceeding under the Digital Millennium Copyright Act from the original deadline identified in the Office's June 8, 2023 notice.

DATES: Written petitions for new exemptions must be received no later than 11:59 p.m. Eastern Time on August 25, 2023. All other deadlines imposed in the June 8, 2023 notice remain unchanged.

ADDRESSES: Written petitions proposing new exemptions must be completed using the form provided on the Office's website at https://www.copyright.gov/1201/2024/new-petition.pdf. All petitions are to be submitted electronically through regulations.gov. Specific instructions for submitting petitions are available on the Copyright Office website at https://www.copyright.gov/1201/2024. If electronic submission is not feasible, please contact the Office using the contact information below for special instructions.

FOR FURTHER INFORMATION CONTACT: Rhea Efthimiadis, Assistant to the General Counsel, by email at meft@copyright.gov or by telephone at 202-707-8350.

SUPPLEMENTARY INFORMATION: On June 8, 2023, the U.S. Copyright Office issued a notice of inquiry initiating the ninth triennial rulemaking proceeding under the Digital Millennium Copyright Act to consider possible temporary exemptions to the prohibition against circumvention of technological measures that control access to copyrighted works.¹ Among other things, the notice solicited proposals for new exemptions to the prohibition against circumvention and set a deadline of August 11, 2023.

¹ 88 FR 37486 (June 8, 2023).

To ensure that members of the public, including those represented by law school clinics, have sufficient time to submit written petitions for new exemptions, and to ensure that the Office has the benefit of a complete record, the Office is extending the deadline for the submission of written petitions for new exemptions to 11:59 p.m. Eastern Time on August 25, 2023. All other deadlines imposed in the June 8, 2023 notice of inquiry remain unchanged.

Dated: June 28, 2023.
Suzanne V. Wilson,
General Counsel and Associate Register of Copyrights.

[FR Doc. 2023-14133 Filed 7-3-23; 8:45 am]

BILLING CODE 1410-30-P